DEPARTMENT OF THE INTERIOR

National Park Service

[NPS-NCR-ROCR-0911-7945; 2310-0052-422]

Final Environmental Impact Statement for the White-Tailed Deer Management Plan, Rock Creek Park

AGENCY: National Park Service, Interior.

ACTION: Notice of Availability.

SUMMARY: The National Park Service (NPS) announces the availability of a Final Environmental Impact Statement (FEIS) for the White-tailed Deer Management Plan (Plan), Rock Creek Park, Washington, DC The Plan will support long-term protection, preservation, and restoration of native vegetation and other natural and cultural resources in Rock Creek Park.

DATES: The NPS will execute a Record of Decision (ROD) no sooner than 30 days from the date of publication of the Notice of Availability of the FEIS and Plan by the Environmental Protection Agency.

ADDRESSES: The FEIS and Plan is available in electronic format online at http://parkplanning.nps.gov/rocr. A limited number of compact discs and hard copies of the FEIS and Plan are available at Rock Creek Park Headquarters, 3545 Williamsburg Lane NW., Washington, DC 20008. You may also request a CD or hard copy by contacting Tara Morrison, Superintendent of Rock Creek Park, at Rock Creek Park Headquarters, 3545 Williamsburg Lane NW., Washington, DC 20008, or by telephone at (202) 895-6000.

FOR FURTHER INFORMATION CONTACT: Tara Morrison, Superintendent, Rock Creek Park, at Rock Creek Park Headquarters, 3545 Williamsburg Lane NW., Washington, DC 20008, or by telephone at (202) 895-6000.

SUPPLEMENTARY INFORMATION: The FEIS and Plan responds to, and incorporates, agency and public comments received on the Draft Environmental Impact Statement (DEIS) and Plan which was available for public review from July 13, 2009, to November 2, 2009. A public meeting was held on September 2, 2009, to gather input on the DEIS and Plan. Over 400 pieces of correspondence were received during the public review period. Agency and public comments and NPS responses are provided in Appendix G of the FEIS and Plan.

The FEIS and Plan evaluates four alternatives for managing white-tailed deer in the park. The document describes and analyzes the environmental impacts of the no-action alternative and three action alternatives. When approved, the Plan will guide deer management actions in Rock Creek Park over the next 15 years. Alternative A (no action) would continue the existing deer management actions and policies of monitoring vegetation, deer density and relative numbers; using limited-protection fencing and deer repellents to protect rare plants in natural areas and small areas in landscaped and cultural areas; data management; and continuing current educational and interpretive measures as well as inter-jurisdictional communication. No new deer management actions would be implemented.

Alternative B would include all actions described under Alternative A, but would incorporate several nonlethal actions to protect forest seedlings, promote forest regeneration, and gradually reduce the deer numbers in the park. Additional actions under Alternative B would include large-scale exclosures (fencing) and reproductive control of does via sterilization and immunocontraceptives when feasible.

Alternative C would include all actions described under Alternative A, but would also incorporate two lethal deer management actions to reduce the herd size. Additional actions under Alternative C would include reduction of the deer herd by either sharpshooting or capture and euthanasia of individual deer. Capture and euthanasia of individual deer would be an approach used in limited circumstances where sharpshooting may not be appropriate.

Alternative D (the NPS preferred alternative) would include all actions described under Alternative A, but would also include a combination of certain additional lethal and non-lethal actions from Alternatives B and C to reduce deer herd numbers. The lethal actions would include both sharpshooting and capture/euthanasia and would be taken initially to quickly reduce the deer herd numbers. Population maintenance would be conducted via reproductive control methods if these are available and feasible. Sharpshooting would be used as a default option for maintenance if reproductive control methods are unavailable and/or infeasible. Alternative D would fully meet the plan objectives and has more certainty of success than the other alternatives analyzed. The relatively rapid reduction in both deer density and browsing pressure on native plant communities and species of special concern would provide beneficial impacts to the natural and cultural resources of the park.

Dated: July 22, 2011.
Stephen E. Whitesell,
Regional Director, National Capital Region.

[FR Doc. 2012-276 Filed 1-10-12; 8:45 am]

BILLING CODE 4312-34-P